DEPARTMENT OF EDUCATION

[Docket No.: ED-2024-SCC-0083]

Agency Information Collection Activities; Submission to the Office of Management and Budget for Review and Approval; Comment Request; Evaluation of the Innovative Assessment Demonstration Authority Pilot Program Survey Data Collections

AGENCY: Institute of Education Sciences (IES), Department of Education (ED).

ACTION: Notice.

SUMMARY: In accordance with the Paperwork Reduction Act (PRA) of 1995, the Department is proposing a new information collection request (ICR).

DATES: Interested persons are invited to submit comments on or before July 25, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Elizabeth Wilde, (202) 987-0594.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Innovative Assessment Demonstration Authority Pilot Program Survey Data Collections.

OMB Control Number: 1850-NEW.

Type of Review: New ICR.

Respondents/Affected Public: Individuals or Households.

Total Estimated Number of Annual Responses: 108.

Total Estimated Number of Annual Burden Hours: 24.

Abstract: The Institute of Education Sciences (IES) is requesting clearance to administer surveys and follow-up interviews for a Congressionally mandated evaluation of the Innovative Assessment Demonstration Authority (IADA) program. Congress created the program to improve the quality and usefulness of assessments required under the Every Student Succeeds Act of 2015 (ESSA), by allowing the U.S. Department of Education (the Department) to exempt states that agree to pilot new assessments from certain testing requirements. IES had initially requested clearance in 2020 to survey participating IADA districts, schools, and teachers on the implementation of these new assessments. However, the COVID-19 pandemic and other challenges extensively slowed implementation, and two states have since withdrawn from IADA. As a result, there are few available districts, schools, and teachers that actually administered the IADA assessment and could share their experiences in ways that would meaningfully contribute to this evaluation. IES is instead requesting to survey and conduct follow-up interviews with state assessment officials, technical advisors, and assessment vendors. Their perspectives will be more informative at this stage of the program and will lead to a much smaller overall burden on respondents.

Dated: June 18, 2024.
Juliana Pearson,
PRA Coordinator, Strategic Collections and Clearance, Governance and Strategy Division, Office of Chief Data Officer, Office of Planning, Evaluation and Policy Development.

[FR Doc. 2024-13816 Filed 6-24-24; 8:45 am]

BILLING CODE 4000-01-P